U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission. The Commission is mandated by Congress to investigate, assess, and report to Congress annually on “the national security implications of the economic relationship between the United States and the People's Republic of China.” Pursuant to this mandate, the Commission will hold a public hearing in Washington, DC on January 26, 2023 on “China's Military Diplomacy and Overseas Security Activities.”

DATES: The hearing is scheduled for Thursday, January 26, 2023 at 9:30 a.m.

ADDRESSES: Members of the public will be able to view a live webcast via the Commission's website at www.uscc.gov. Reservations are not required to view the hearing. If available, instructions for in-person attendance will be posted on the Commission's website, based on the status of public access to Capitol grounds.

FOR FURTHER INFORMATION CONTACT: Any member of the public seeking further information concerning the hearing should contact Jameson Cunningham, 444 North Capitol Street NW, Suite 602, Washington, DC 20001; telephone: 202-624-1496, or via email at jcunningham@uscc.gov. Reservations are not required to attend the hearing.

ADA Accessibility: For questions about the accessibility of the event or to request an accommodation, please contact Jameson Cunningham via email at jcunningham@uscc.gov. Requests for an accommodation should be made as soon as possible, and at least five business days prior to the event.

SUPPLEMENTARY INFORMATION:

Background: This is the first public hearing the Commission will hold during its 2023 report cycle. The hearing will start with a review of the concepts and strategy of China's military diplomacy. Next, the hearing will evaluate how China uses overseas military activities to improve capabilities and access for the People's Liberation Army. Finally, the hearing will examine China's foreign military sales and acquisition of foreign military technology.

The hearing will be co-chaired by Chairman Carolyn Bartholomew and Commissioner Randall Schriver. Any interested party may file a written statement by January 26, 2023 by transmitting to the contact above. A portion of the hearing will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: January 6, 2023.
Daniel W. Peck,
Executive Director, U.S.-China Economic and Security Review Commission.

[FR Doc. 2023-00403 Filed 1-10-23; 8:45 am]

BILLING CODE 1137-00-P